DEPARTMENT OF COMMERCE

Foreign-Trade Zones Board

[S-139-2017]

Foreign-Trade Zone 168—Dallas/Fort Worth, Texas, Area; Application for Subzone; Gulfstream Aerospace Corporation; Dallas, Texas

An application has been submitted to the Foreign-Trade Zones (FTZ) Board by the Metroplex International Trade Development Corporation, grantee of FTZ 168, requesting subzone status for the facilities of Gulfstream Aerospace Corporation located in Dallas, Texas. The application was submitted pursuant to the provisions of the Foreign-Trade Zones Act, as amended (19 U.S.C. 81a-81u), and the regulations of the FTZ Board (15 CFR part 400). It was formally docketed on September 12, 2017.

The proposed subzone would consist of one site (two parcels, 20.221 acres total) located at Dallas Love Field Airport in Dallas: (1) Dallas Love Field South, 7440 Aviation Place and 7458 Cedar Springs Road; and, (2) Dallas Love Field North, 8405, 8411 and 8555 Lemmon Avenue. The proposed subzone would be subject to the existing activation limit of FTZ 168. Production authority for Gulfstream's activity was approved on July 5, 2016 (81 FR 46642-46643, July 18, 2016).

In accordance with the FTZ Board's regulations, Camille Evans of the FTZ Staff is designated examiner to review the application and make recommendations to the Executive Secretary.

Public comment is invited from interested parties. Submissions shall be addressed to the FTZ Board's Executive Secretary at the address below. The closing period for their receipt is October 25, 2017. Rebuttal comments in response to material submitted during the foregoing period may be submitted during the subsequent 15-day period to November 9, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: September 12, 2017.
Andrew McGilvray,
Executive Secretary.

[FR Doc. 2017-19639 Filed 9-14-17; 8:45 am]

BILLING CODE 3510-DS-P